DEPARTMENT OF DEFENSE

Department of the Army

Availability for Non-Exclusive, Exclusive, or Partially Exclusive Licensing of U.S. Patent Concerning Polarization Correlation Signal Processing for Ladars and Radars

AGENCY: Department of the Army, DoD.

ACTION: Notice.

SUMMARY: In accordance with 37 CFR 404.6 and 404.7, announcement is made of the availability for licensing of the invention set forth in U.S. Patent No. 6,967,617 entitled “Polarization Correlation Signal Processing for Ladars and Radars,” issued on November 22, 2005. The United States Government, as represented by the Secretary of the Army, has rights in this invention.

ADDRESSES: Office of Research and Technology Applications, SDMC-RDTC-TDL (Ms. Susan D. McRae), Bldg. 5220, Von Braun Complex, Redstone Arsenal, AL 35898.

FOR FURTHER INFORMATION CONTACT: Ms. Joan Gilsdorf, Patent Attorney, e-mail: joan.gilsdorf@smdc.army.mil; (256) 955-3213 or Ms. Susan D. McRae, Office of Research and Technology Applications, e-mail: susan.mcrae@smdc.army.mil; (256) 955-1501.

SUPPLEMENTARY INFORMATION: The invention pertains to correlating a received waveform of a wideband electromagnetic signal with a predetermined waveform. A correlating polarimeter includes a first antenna for receiving an electromagnetic signal and a modulator interconnected with the first antenna for modulating the electromagnetic signal. A modulated electromagnetic signal results that contains a different polarization state for each frequency of the electromagnetic signal with the amplitude of each frequency component of the modulated electromagnetic signal being a function of the particular polarization state of each frequency component of the electromagnetic signal. The correlating polarimeter may also include a linear polarizer that can be configured to pass a first predetermined polarization of the modulated electromagnetic signal through a first output thereof, a first receiver for receiving and demodulating the electromagnetic signal from the linear polarizer and outputting a received waveform, and a correlator interconnected with the first receiver to compare the received waveform to a predetermined waveform and output a correlation indicator.

Brenda S. Bowen,
Army Federal Register Liaison Officer.

[FR Doc. E9-3250 Filed 2-13-09; 8:45 am]

BILLING CODE 3710-08-P